DEPARTMENT OF LABOR

Employee Benefits Security Administration

Agency Information Collection Activities; Notification of Public; Withdrawal

AGENCY: Employee Benefits Security Administration, U.S. Department of Labor.

ACTION: Discontinuance of an information collection; withdrawal.

SUMMARY: The Department of Labor (the Department) is withdrawing the notice of the discontinuance of a collection of information under control number 1210-0114, “Plan Assets”—Insurance Company General Accounts.

DATES: Effective August 11, 2025, the notice of discontinuance of a collection of information published at 90 FR 34299 on July 21, 2025, is withdrawn.

FOR FURTHER INFORMATION CONTACT: Susan Wilker, Office of Exemption Determinations, Employee Benefits Security Administration, (202) 693- 8540, or James Butikofer, Office of Research and Analysis, Employee Benefits Security Administration, (202) 693-8434. This is not a toll-free number. Individuals with hearing or speech impairments may access the telephone number above by TTY by calling the toll-free Federal Information Relay Service at (800) 877- 8339.

SUPPLEMENTARY INFORMATION: The Department of Labor (the Department), in accordance with the Paperwork Reduction Act, published a notice of the discontinuance of a collection of information under control number 1210-0114, “Plan Assets”—Insurance Company General Accounts on July 21, 2025 at 90 FR 34299, which would have been implemented if the direct final rule (DFR) published at 90 FR 28009 became effective on September 2, 2025. In the DFR, the Department stated that if significant adverse comments (as defined in the DFR published at 90 FR 28009) were received by July 31, 2025, the Department would publish a timely notification in the Federal Register either withdrawing the DFR or issuing a new final rule which responds to the significant adverse comments. Due to the receipt of significant adverse comments, the Department withdrew the DFR. The notice withdrawing the DFR is published elsewhere in today's edition of the Federal Register. The Department withdraws the notice of the discontinuance of a collection of information under control number 1210-0114.

Signed at Washington, DC, this 8th day of August 2025.
Janet Dhillon,
Acting Assistant Secretary, Employee Benefits Security Administration, U.S. Department of Labor.

[FR Doc. 2025-15290 Filed 8-11-25; 8:45 am]

BILLING CODE 4510-29-P